DEPARTMENT OF STATE

[Public Notice 8533]

Notice of Meeting of Advisory Committee on International Law

Correction

In notice document 2013-28232 appearing on page 70392, in the issue of Monday, November 25, 2013, make the following correction:

In the second column, in the seventh line from the bottom, the entry “mailto:KillTP@state.gov” was inadvertently added to the document and is therefore deleted.

[FR Doc. C1-2013-28232 Filed 12-3-13; 8:45 am]

BILLING CODE 1505-01-D